NUCLEAR REGULATORY COMMISSION

Notice of Availability of the Final License Renewal Interim Staff Guidance LR-ISG-2006-03: Staff Guidance for Preparing Severe Accident Mitigation Alternatives Analyses

AGENCY: Nuclear Regulatory Commission (NRC).

ACTION: Notice of Availability.

SUMMARY: NRC is issuing its Final License Renewal Interim Staff Guidance LR-ISG-2006-03 for preparing severe accident mitigation alternatives (SAMA) analyses. This LR-ISG recommends that applicants for license renewal use the Guidance Document Nuclear Energy Institute 05-01, Revision A, (ADAMS Accession No. ML060530203) when preparing their SAMA analyses. The NRC staff issues LR-ISGs to facilitate timely implementation of the license renewal rule and to review activities associated with a license renewal application. The NRC staff will also incorporate the approved LR-ISG into the next revision of Supplement 1 to Regulatory Guide 4.2, “Preparation of Supplemental Environmental Reports for Applications to Renew Nuclear Power Plant Operating Licenses.”

ADDRESSES: The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room (PDR) reference staff at 1-800-397-4209, 301-415-4737, or by e-mail at pdr@nrc.gov.

FOR FURTHER INFORMATION CONTACT: Mr. Richard L. Emch, Jr., Senior Project Manager, Office of Nuclear Reactor Regulation, U.S. Nuclear Regulatory Commission, Washington, DC 20555-0001; telephone 301-415-1590 or by e-mail at rle@nrc.gov.

SUPPLEMENTARY INFORMATION: Attachment 1 to this Federal Register notice, entitled Staff Position and Rationale for the Final License Renewal Interim Staff Guidance LR-ISG-2006-03: Staff Guidance for Preparing Severe Accident Mitigation Alternatives (SAMA) Analyses contains the NRC staff's rationale for publishing the Final LR-ISG-2006-03. Attachment 2 to this Federal Register notice, entitled Proposed License Renewal Interim Staff Guidance LR-ISG-2006-03: Staff Guidance for Preparing Severe Accident Mitigation Alternatives (SAMA) Analyses, contains the guidance for preparing SAMA analyses related to license renewal applications. The NRC staff approves this LR-ISG for NRC and industry use. The NRC staff will also incorporate the approved LR-ISG into the next revision of Supplement 1 to Regulatory Guide 4.2, “Preparation of Supplemental Environmental Reports for Applications to Renew Nuclear Power Plant Operating Licenses.”

Dated at Rockville, Maryland, this 2nd day of August 2007.
For the Nuclear Regulatory Commission.
Pao-Tsin Kuo,
Director, Division of License Renewal, Office of Nuclear Reactor Regulation.

Attachment 1—Staff Position and Rationale for the Final License Renewal Interim Staff Guidance LR-ISG-2006-03: Staff Guidance for Preparing Severe Accident Mitigation Alternatives Analyses

Staff Position: The NRC staff recommends that applicants for license renewal follow the guidance provided in Nuclear Energy Institute (NEI) 05-01, “Severe Accident Mitigation Alternatives (SAMA) Analysis—Guidance Document,” Revision A, when preparing their SAMA analyses.

Rationale: The NEI developed a generic Guidance Document NEI 05-01, Revision A, to help clarify the NRC staff's expectations regarding the information that needs to be included in SAMA analyses. The NRC staff reviewed and concluded that NEI 05-01, Revision A, describes existing NRC regulations and facilitates complete preparation of SAMA analysis submittals. The staff finds that utilization of the guidance provided in NEI 05-01, Revision A, will result in improved quality in SAMA analyses and a reduction in the number of requests for additional information.

Attachment 2—Final License Renewal Interim Staff Guidance LR-ISG-2006-03: Staff Guidance for Preparing Severe Accident Mitigation Alternatives Analyses

Introduction

A severe accident mitigation alternatives (SAMA) analyses is required as part of a license renewal application, if a SAMA analysis has not already been performed for the plant and reviewed by the NRC staff. SAMA analyses have been performed and submitted to the NRC for all applications for license renewal received by the staff thus far. Therefore, this LR-ISG is being recommended as guidance consistent with our goal to more effectively and efficiently resolve license renewal issues identified by the staff or the industry.

Background and Discussion

After receiving extensive requests for additional information regarding the SAMA analyses, several applicants for license renewal concluded that they did not fully understand the kind of information that the NRC staff was expecting to see in SAMA analyses.

The Nuclear Energy Institute (NEI) developed a generic guidance document to help clarify the NRC staff's expectations regarding the information that should be submitted in SAMA analyses. On April 8, 2005, NEI submitted NEI 05-01, “Severe Accident Mitigation Alternatives (SAMA) Analysis—Guidance Document.” The NRC staff reviewed this guidance document, and by letter, dated July 12, 2005, provided comments on NEI 05-01. The NRC staff's comments were discussed during a public meeting between NEI and NRC on July 21, 2005.

On February 17, 2006, NEI submitted its NEI 05-01, Revision A, dated November 2005. The NRC staff reviewed and concluded that this version fully resolved the NRC staff's comments. In addition, the NRC staff concluded that NEI 05-01, Revision A, describes existing NRC regulations, and facilitates complete preparation of SAMA analysis submittals.

Some applicants for license renewal have submitted SAMA analyses using the guidance provided in NEI 05-01, Revision A. The NRC staff found improved quality in the submitted SAMA analyses and a reduction in the number of requests for additional information for those applications that followed the guidance provided in NEI 05-01, Revision A.

Recommended Action

The staff is recommending that applicants for license renewal follow the guidance provided in NEI 05-01, Revision A, when preparing their SAMA analyses. The staff finds that NEI 05-01, Revision A, describes existing NRC regulations, and facilitates complete preparation of SAMA analysis submittals.

Although this proposed LR-ISG does not convey a change in the NRC's regulations or how they are interpreted, it is being provided to facilitate complete preparation of future SAMA analysis submittals in support of applications for license renewal. The NRC staff plans to incorporate the guidance provided in NEI 05-01, Revision A, into a future update of Supplement 1 to Regulatory Guide 4.2, “Preparation of Supplemental Environmental Reports for Applications to Renew Nuclear Power Plant Operating Licenses.” This LR-ISG provides a clarification of existing guidance with no additional requirements. For those that are interested in reviewing NEI 05-01, Revision A, the Agencywide Documents Access and Management System (ADAMS) Accession Number is ML060530203.

[FR Doc. E7-15926 Filed 8-13-07; 8:45 am]

BILLING CODE 7590-01-P